DEPARTMENT OF ENERGY

[GDO Docket No. EA-502]

Application for Authorization To Export Electric Energy; In Commodities US LLC

AGENCY: Grid Deployment Office, Department of Energy.

ACTION: Notice of application.

SUMMARY: In Commodities US LLC (the Applicant or In Commodities) has applied for authorization to transmit electric energy from the United States to Canada pursuant to the Federal Power Act.

DATES: Comments, protests, or motions to intervene must be submitted on or before September 29, 2023.

ADDRESSES: Comments, protests, motions to intervene, or requests for more information should be addressed by electronic mail to Electricity.Exports@hq.doe.gov.

FOR FURTHER INFORMATION CONTACT: Christina Gomer, (240) 474-2403, Electricity.Exports@hq.doe.gov.

SUPPLEMENTARY INFORMATION: The United States Department of Energy (DOE) regulates electricity exports from the United States to foreign countries in accordance with section 202(e) of the Federal Power Act (FPA) (16 U.S.C. 824a(e)) and regulations thereunder (10 CFR 205.300 et seq.). Sections 301(b) and 402(f) of the DOE Organization Act (42 U.S.C. 7151(b) and 7172(f)) transferred this regulatory authority, previously exercised by the now-defunct Federal Power Commission, to DOE.

Section 202(e) of the FPA provides that an entity which seeks to export electricity must obtain an order from DOE authorizing that export (16 U.S.C. 824a(e)). On April 10, 2023, the authority to issue such orders was delegated to the DOE's Grid Deployment Office (GDO) by Delegation Order No. S1-DEL-S3-2023 and Redelegation Order No. S3-DEL-GD1-2023.

On June 21, 2023, In Commodities filed an application with DOE (Application or App.) for authorization to transmit electric energy to Canada for a five-year term. App at 1.

In its Application, In Commodities states that it is a Delaware limited liability company with its headquarters in Denmark, and that “is also registered as a foreign limited liability company in the states of New Jersey, New York, and Texas.” Id. at 2. The Applicant states it “is a direct, wholly owned subsidiary of In Commodities US ApS, a corporation organized under the laws of Denmark. In Commodities US ApS is wholly owned by Incomas Global ApS, also organized under the laws of Denmark. In Commodities Global ApS is wholly owned by Incomas Holdings ApS, also organized under the laws of Denmark.” Id. The Applicant represents that it “has no electric power supply system on which the proposed exports could have a reliability, fuel use system, or stability impact. In Commodities also has no obligation to serve native load usually associated with a franchised service area, and, thus, the exports proposed by In Commodities will not impair its ability to meet current and prospective power supply obligations.” Id. at 3-4. The Applicant further states, “In Commodities will purchase power to be exported from a variety of sources such as power marketers, independent power producers, or U.S. electric utilities and federal power marketing entities as those terms are defined in Sections 3(22) and 3(19) of the FPA. By definition, such power is surplus to the system of the generator and, therefore, the electric power that In Commodities will export on either a firm or interruptible basis will not impair the sufficiency of the electric power supply within the U.S.” Id. at 4.

The existing international transmission facilities to be utilized by the Applicant have been previously authorized by Presidential permits issued pursuant to Executive Order 10485, as amended, and are appropriate for open access transmission by third parties. Id. at Exhibit C.

Procedural Matters: Any person desiring to be heard in this proceeding should file a comment or protest to the Application at Electricity.Exports@hq.doe.gov. Protests should be filed in accordance with Rule 211 of Federal Energy Regulatory Commission's (FERC) Rules of Practice and Procedure (18 CFR 385.211). Any person desiring to become a party to this proceeding should file a motion to intervene at Electricity.Exports@hq.doe.gov in accordance with FERC Rule 214 (18 CFR 385.214).

Comments and other filings concerning In Commodities' Application should be clearly marked with GDO Docket No. EA-502. Additional copies are to be provided directly to Divna Gavric, In Commodities US LLC, 251 Little Falls Drive, Wilmington, DE 19808, marketsetup@in-commodities.com and Valerie L. Green, Pierce Atwood LLP, 1875 K St. NW, Suite 700, Washington, DC 20006, Vgreen@pierceatwood.com.

A final decision will be made on the requested authorization after the environmental impacts have been evaluated pursuant to DOE's National Environmental Policy Act Implementing Procedures (10 CFR part 1021) and after DOE evaluates whether the proposed action will have an adverse impact on the sufficiency of supply or reliability of the United States electric power supply system.

Copies of this Application will be made available, upon request, by accessing the program website at https://www.energy.gov/gdo/pending-applications-0 or by emailing Electricity.Exports@hq.doe.gov.

Signing Authority: This document of the Department of Energy was signed on August 24, 2023, by Maria Robinson, Director, Grid Deployment Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC on August 25, 2023.
Treena V. Garrett,
Federal Register Liaison Officer, U.S. Department of Energy.

[FR Doc. 2023-18728 Filed 8-29-23; 8:45 am]

BILLING CODE 6450-01-P